DEPARTMENT OF COMMERCE

National Oceanic and Atmospheric Administration

[RTID 0648-XC212]

Gulf of Mexico Fishery Management Council; Public Meeting

AGENCY: National Marine Fisheries Service (NMFS), National Oceanic and Atmospheric Administration (NOAA), Commerce.

ACTION: Notice of a public hybrid meeting.

SUMMARY: The Gulf of Mexico Fishery Management Council (Council) will hold a four-day meeting to consider actions affecting the Gulf of Mexico fisheries in the exclusive economic zone (EEZ). The meeting is open to the public offering both in-person and virtual options for participation.

DATES: The meeting will convene Monday, August 22 through Thursday, August 25, 2022, from 8 a.m. to 5 p.m., CDT, each day.

ADDRESSES: The meeting will take place at the Omni Corpus Christ hotel, located at 900 North Shoreline Boulevard, Corpus Christi, TX 78401. Please note, in-person meeting attendees will be expected to follow any current COVID-19 safety protocols as determined by the Council, hotel and the City of Corpus Christi, if any. Such precautions may include masks, room capacity restrictions, and/or social distancing. If you prefer to “listen in”, you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, August 22, 2022; 8 a.m.-5 p.m., CDT

The meeting will begin with the Induction of Council Members. Following, the Administrative/Budget Committee will review and discuss the Final 2022 Funded Budget and Activities, and proposed Modifications to the Council's Statement of Organization Practices and Procedures (SOPPS).

The Coral Committee will review the Florida Keys National Marine Sanctuary Propose Rule and receive a presentation from Florida Fish and Wildlife Conservation Commission (FWC) on Florida Keys Sanctuary Proposed Rule.

The Outreach and Education (O&E) Technical Committee will review the Communication Plan to Promote Return of Shrimp Fleet Effort Data and summary recommendations from the O&E Technical Committee meeting.

The Data Collection Committee will review the Abbreviated Framework Action to Modify For-Hire Trip Declaration Requirements. Draft Options Joint Amendment to Require Electronic Reporting for Commercial Logbooks.

The Reef Fish Committee will convene to review Reef Fish Landings and Individual Fishing Quota (IFQ) Landings, and review of the Gulf and South Atlantic Scientific and Statistical Committees (SSC) Review and Recommendations for Southeastern U.S. Yellowtail Snapper.

Tuesday, August 23, 2022; 8 a.m.-5 p.m., CDT

The Reef Fish Committee will reconvene and receive an update on National Marine Fisheries Service (NMFS') Agency Priorities and Draft Equity and Environmental Justice Strategy Remarks. The Committee will review State-specific Private Angling Red Snapper Landings and Reef Fish Directed Effort, Public Hearing Draft Amendment 54: Modifications to the Greater Amberjack Catch Limits and Sector Allocations, and other Rebuilding Plan Modifications.

The Committee will review and discuss final action item Modification of Catch Limits for Gulf of Mexico Red Snapper, receive a presentation on Framework Action for Vermilion Snapper Recreational Bag Limit and Gray Triggerfish Commercial Trip Limit and Recreational Closed Seasons; and, SSC recommendations from the July 2022 SSC meeting.

The Committee will review draft options for Amendment 56: Modifications to the Gag Grouper Catch Limits, Sector Allocations, Fishing Seasons and other Rebuilding Plan Measures; receive a presentation on Scientific and Statistical Committee (SSC) Review of Alternative SEDAR 72 Base Model using Florida's State Reef Fish Survey and SSC Recommendations; and, review and discuss Individual Fishing Quota (IFQ) Focus Group Meeting Report.

Immediately following the Reef Fish Committee Highly Migratory Species Staff will be available for a Question and Answer Session.

Wednesday, August 24, 2022; 8 a.m.-5 p.m., CDT

The Migratory Species Committee will receive a presentation on Migratory Species Shark Assessments and Management Strategies.

The Sustainable Fisheries Committee will receive a presentation on NOAA's Climate Regional Action Plan and draft a comment letter, draft a comment letter on NOAA's Equity and Environmental Justice Strategy, review the SSC Recommendations on Acceptable Biological Catch (ABC) Control Rule; and, receive a presentation on Mechanisms and Options for Automating Catch Advise from Interim Analysis.

The Committee will have an overview of Research Set-Asides (RSA) Timeline, Composition, and Draft Objectives and discuss the Florida Pompano Petition for Federal Rulemaking.

Approximately 11:15 a.m., CDT, the Council will reconvene with a Call to Order, Announcements and Introductions, Adoption of Agenda and Approval of Minutes.

The Council will receive an update from Bureau of Ocean Energy Management (BEOM) on Wind Energy Development in the Gulf of Mexico and a presentation from the Western Central Atlantic Fishery Commission (WECAFC) updates on Flying Fish-Dolphinfish Working Group Efforts.

The Council will hold public testimony from 1:30 p.m. to 5 p.m., CDT on Final Action Item Modification of Catch Limits for Gulf of Mexico Red Snapper, Draft Comment Letter on NOAA's Climate Regional Action Plan and Draft Comment Letter on NOAA's Equity and Environmental Justice Strategy; and open testimony on other fishery issues or concerns. Public comment may begin earlier than 1:30 p.m. CDT, but will not conclude before that time. Persons wishing to give public testimony in-person must register at the registration kiosk in the meeting room. Persons wishing to give public testimony virtually must sign up via the link on the Council website. Registration for virtual testimony is open at the start of the meeting, Monday, August 22nd at 8 a.m., CDT and closes one hour before public testimony begins on Wednesday, August 24th (12:30 p.m., CDT).

Thursday, August 25, 2022; 8 a.m.-5 p.m., CDT

The Council will receive Committee reports from Administrative/Budget, Coral, Data Collection, Migratory Species, Outreach and Education, Reef Fish and Sustainable Fisheries Management Committees. The Council will receive updates from the following supporting agencies: South Atlantic Fishery Management Council; Texas Law Enforcement Efforts; NOAA Office of Law Enforcement (OLE); Gulf States Marine Fisheries Commission; U.S. Coast Guard; U.S. Fish and Wildlife Service; and Department of State.

The Council will discuss any Other Business items; and, hold an Election for 2022-23 Chair and Vice-Chair.

—Meeting Adjourns

The meeting will be a hybrid meeting; both in-person and virtual participation available. You may register for the webinar to listen-in only by visiting ww.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: July 25, 2022.
Rey Israel Marquez,
Acting Deputy Director, Office of Sustainable Fisheries, National Marine Fisheries Service.

[FR Doc. 2022-16230 Filed 7-27-22; 8:45 am]

BILLING CODE 3510-22-P